DEPARTMENT OF ENERGY

Federal Energy Regulatory Commission

[Docket No. IC12-10-000]

Commission Information Collection Activities (FERC-545); Comment Request; Extension

AGENCY: Federal Energy Regulatory Commission, Energy.

ACTION: Notice of information collection and request for comments.

SUMMARY: In compliance with the requirements of the Paperwork Reduction Act of 1995, 44 U.S.C. 3506(c)(2)(A), the Federal Energy Regulatory Commission (Commission or FERC) is soliciting public comment on the currently approved information collection, Gas Pipeline Rates: Non-Formal, FERC-545.

DATES: Comments on the collection of information are due July 13, 2012.

ADDRESSES: You may submit comments (identified by Docket No. IC12-10-000) by either of the following methods:

• eFiling at Commission's Web Site:http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-545, Gas Pipeline Rates: Non-Formal.

OMB Control No.: 1902-0154.

Type of Request: Three-year extension of the FERC-545 information collection requirements with no changes to the current reporting requirements.

Abstract: The FERC-545 information collection applies to filings made pursuant to the Natural Gas Act (NGA) ¹ and the Natural Gas Policy Act (NGPA) ² by regulated entities. The filings enable the Commission to monitor the activities and to evaluate transactions of regulated entities. Additionally, these filings allow customers and interested parties to monitor, participate, and influence pipeline tariff changes.

¹ 15 U.S.C. 717c-717o, Public Law 75-688, 52 Stat. 822 and 830.

² 15 U.S.C. 3393, Public Law 95-621.

Type of Respondents: Entities regulated pursuant to the NGA and NGPA.

Estimate of Annual Burden: ³ The Commission estimates the total Public Reporting Burden for this information collection as:

³ Burden is defined as the total time, effort, or financial resources expended by persons to generate, maintain, retain, or disclose or provide information to or for a Federal agency. For further explanation of what is included in the information collection burden, reference 5 Code of Federal Regulations 1320.3.

FERC-545 (IC12-10-000): Gas Pipeline Rates: Non-Formal
| Number of respondents | Number of responses per respondent | Total number of responses | Average burden hours per response | Estimated total annual burden
| (A) | (B) | (A) × (B) = (C) | (D) | (C) × (D)
General (e.g. Tariff modifications resulting from Commission orders) | 164 | 7 | 1,148 | 40 | 45,920
Standard Rate Case Issues (e.g. Compliance, Cost of Service) | 15 | 2 | 30 | 7,500 | 225,000
Reports (Informational Filings) | 47 | 2 | 94 | 12 | 1,128
Negotiated Rates | 57 | 7 | 399 | 12 | 4,788
Non-Conforming Agreements | 50 | 3 | 150 | 12 | 1,800
NAESB (Tariff Only) | 82 | 2 | 164 | 40 | 6,560
Total |  |  |  |  | 285,196

The total estimated annual cost burden to respondents is $19,681,266 [285,196 hours ÷ 2,080 ⁴ hours/year = 137.11346 * $143,540/year ⁵ = $19,681,266].

⁴ 2080 hours/year = 40 hours/week * 52 weeks/year.

⁵ Average annual salary per employee in 2012.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 7, 2012.
Kimberly D. Bose,
Secretary.

[FR Doc. 2012-11578 Filed 5-11-12; 8:45 am]

BILLING CODE 6717-01-P